FEDERAL COMMUNICATIONS COMMISSION

47 CFR Part 73

[DA 05-748; MB Docket No. 05-136, RM-11163; MB Docket No. 05-137, RM-11161; MB Docket No. 05-138, RM-11162]

Radio Broadcasting Services; Arapaho, OK; Big Spring, TX; Cameron, LA

AGENCY: Federal Communications Commission.

ACTION: Proposed rule.

SUMMARY: This document proposes three new FM broadcast allotments in Arapaho, Oklahoma; Big Spring, Texas; and Cameron, Louisiana. The Audio Division, Media Bureau, requests comment on three separate petitions filed by Charles Crawford. Each proposal has its own docket and rulemaking number. The first petition, MB Docket No. 05-136, RM-11163, proposes the allotment of Channel 251C3 at Arapaho, Oklahoma, as the community's first local service. Channel 251C3 can be allotted to Arapaho in compliance with the Commission's minimum distance separation requirements with a site restriction of 13.1 kilometers (8.1 miles) south of the community. The reference coordinates for Channel 251C3 at Arapaho are 35-28-00 NL and 98-55-00 WL. The second petition, MB Docket No. 137, RM-11161, proposes the allotment of Channel 265C3 at Big Spring, Texas, as the community's sixth local service. Channel 265C3 can be allotted to Big Spring in compliance with the Commission's minimum distance separation requirements with a site restriction of 17.7 kilometers (11.0 miles) east of the community. The reference coordinates for Channel 265C3 at Big Spring are 32-12-00 NL and 101-18-00 WL. Because this site is within 320 kilometers (200 miles) of the Mexican border, concurrence of the Mexican government has been requested for the allotment. The third petition, MB Docket No. 05-138, RM-11162, proposes the allotment of Channel 296C3 at Cameron, Louisiana, as the community's first local service. Channel 296C3 can be allotted to Cameron in compliance with the Commission's minimum distance separation requirements at the center of city coordinates of 29-47-48 NL and 93-19-30 WL.

DATES: Comments, with reference to the appropriate docket and rulemaking number, must be filed on or before May 10, 2005, and reply comments, with reference to the appropriate docket and rulemaking number, must be filed on or before May 25, 2005.

ADDRESSES: Federal Communications Commission, 445 Twelfth Street, SW., Washington, DC 20554. In addition to filing comments with the FCC, interested parties should serve the petitioner, as follows: Charles Crawford, 4553 Bordeaux Avenue, Dallas, Texas 75205.

FOR FURTHER INFORMATION CONTACT: Helen McLean, Media Bureau, (202) 418-2738.

SUPPLEMENTARY INFORMATION: This is a synopsis of the Commission's Notice of Proposed Rule Making, MB Docket Nos. 05-136, 05-137, 05-138, adopted March 21, 2005, and released March 23, 2005. The full text of this Commission document is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20054, telephone 1-800-378-3160 or http://www.BCPIWEB.com.

This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Louisiana is amended by adding Cameron, Channel 296C3.

3. Section 73.202(b), the Table of FM Allotments under Oklahoma, is amended by adding Arapaho, Channel 251C3.

4. Section 73.202(b), the Table of FM Allotments under Texas, is amended by adding Channel 265C3 at Big Spring.

Federal Communications Commission
John A. Karousos,
Assistant Chief, Audio Division, Media Bureau.

[FR Doc. 05-7076 Filed 4-12-05; 8:45 am]

BILLING CODE 6712-01-P